SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before April 9, 2001.

ADDRESSES: Send all comments regarding whether these information collections are necessary for the proper performance of the function of the agency, whether the burden estimate is accurate, and if there are ways to minimize the estimated burden and enhance the quality of the collections, to David Ashley, Market Research Specialist, Office of Communications and Public Liaison, Small Business Administration, 409 3rd Street, S.W., Suite 2552.

FOR FURTHER INFORMATION CONTACT: David Ashley, Market Research Specialist, 202-205-6868 or Curtis B. Rich, Management Analyst, (202)205-7030.

SUPPLEMENTARY INFORMATION: Title: National Customer Service Tracking Program.

Form No: N/A.

Description of Respondents: SBA Customer, Procurement Officials, and resource Partners.

Annual Responses: 5,000.

Annual Burden: 1,000.

Jacqueline White,
Chief, Administrative Information Branch.

[FR Doc. 01-3030 Filed 2-5-01; 8:45am]

BILLING CODE 8025-01-P